DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: 2012 National Survey on Drug Use and Health (NSDUH) Questionnaire Field Test—NEW

The National Survey on Drug Use and Health (NSDUH) is a survey of the civilian, non-institutionalized population of the United States 12 years old and older. The data are used to determine the prevalence of use of tobacco products, alcohol, illicit substances, and illicit use of prescription drugs. The results are used by SAMHSA, ONDCP, Federal government agencies, and other organizations and researchers to establish policy, direct program activities, and better allocate resources.

In order to continue producing current data, SAMHSA's Center for Behavioral Health Statistics and Quality (CBHSQ) must update the NSDUH periodically to reflect changing substance abuse and mental health issues. CBHSQ is planning to redesign the NSDUH for the 2015 survey year. The redesign will seek to achieve two main goals: (1) To revise the questionnaire to address changing policy and research data needs, and (2) to modify the survey methodology to improve the quality of estimates and the efficiency of data collection and processing. SAMHSA is requesting approval to conduct a Questionnaire Field Test (QFT) to test revisions to the questionnaire associated with these goals.

The field test will consist of 2,000 English-speaking respondents in the continental United States. The sample size of the survey will be large enough to detect differences between data collected using the annual NSDUH compared to the redesigned procedures. The total annual burden estimate is shown below:

Estimated Burden for 2012 NSDUH QFT
Instrument | Number of respondents | Responses per respondent | Hours per response | Total burden hours | Hourly wage rate | Annualized costs
Household Screening | 3,338 | 1 | 0.083 | 277 | $14.45 | $4,003
Interview | 2,000 | 1 | 1.250 | 2,500 | 14.45 | 36,125
Screening Verification | 100 | 1 | 0.067 | 6.7 | 14.45 | 97
Interview Verification | 300 | 1 | 0.067 | 20 | 14.45 | 289
Total | 3,338 |  |  | 2,804 |  | 40,514

Send comments to Summer King, SAMHSA Reports Clearance Officer, Room 8-1099, One Choke Cherry Road, Rockville, MD 20857 or email a copy to summer.king@samhsa.hhs.gov. Written comments must be received before 60 days after the date of the publication in the Federal Register.

Summer King,
Statistician.

[FR Doc. 2012-4713 Filed 2-28-12; 8:45 am]

BILLING CODE 4162-20-P